DEPARTMENT OF STATE

[Public Notice 5597]

Intensive Summer Language Institutes

Announcement Type: New Cooperative Agreement.

Funding Opportunity Number: ECA/A/E-07-01.

Catalog of Federal Domestic Assistance Number: 00.000.

Key Dates:

Application Deadline: January 5, 2007.

Executive Summary: The Office of Academic Exchange Programs of the Bureau of Educational and Cultural Affairs announces an open competition for projects to provide foreign language instruction overseas for American undergraduate and graduate students in the summer of 2007 in support of the National Security Language Initiative (NSLI). Public and private non-profit organizations, or consortia of such organizations meeting the provisions described in Internal Revenue Code section 26 U.S.C. 501(c)(3), may submit proposals to implement six-to ten-week summer institutes overseas for a minimum total of 365 participants in countries where Arabic, Chinese, Korean, Russian and the Indic, Persian, and Turkic language families are widely spoken. These summer institutes should offer U.S. undergraduate and graduate students structured classroom instruction and less formal interactive learning opportunities through a comprehensive exchange experience that primarily emphasizes language learning. Proposals from applicant organizations should clearly indicate the building of new, additional institutional language-teaching capacity overseas for these summer institutes—this program is designed to develop additional language study opportunities for U.S. students.

I. Funding Opportunity Description

Authority: Overall grant making authority for this program is contained in the Mutual Educational and Cultural Exchange Act of 1961, as amended, Public Law 87-256, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic, and peaceful relations between the United States and the other countries of the world.” The funding authority for the program above is provided through legislation.

Purpose: The Bureau of Educational and Cultural Affairs (ECA) is supporting the participation of American undergraduate and graduate students in intensive, substantive foreign language study to further strengthen national security and prosperity in the 21st century as part of the National Security Language Initiative (NSLI), launched by President Bush in January 2006.

Foreign language skills are essential to engaging foreign governments and peoples, especially in critical world regions, to promote understanding and convey respect for other cultures. These skills are essential to Americans who will support the nation's foreign affairs priorities, its economic competitiveness, and its educational institutions as they prepare future citizens for full engagement in the global environment. The broad NSLI initiative focuses resources on improving language learning for U.S. citizens across the educational spectrum and emphasizes the need to achieve mastery of critical languages; this activity focuses on the college and university section.

The goals of the Intensive Summer Language Institutes are:

• To develop a cadre of Americans with advanced linguistic skills and related cultural understanding who are able to advance international dialogue, promote the security of the United States, compete effectively in the global economy, and better serve the needs of students and academic institutions; and

• To improve the ability of Americans to engage with the people of other countries through the shared language of the partner country.

In order to achieve these goals, the Bureau supports programs for American undergraduate and graduate students to gain and improve language proficiency in Arabic, Chinese, Korean, Russian and the Indic, Persian, and Turkic language families. ECA plans to award a single grant for the recruitment and administration of all Intensive Summer Language Institutes in all world regions. Organizations with expertise in one or more of the indicated languages are encouraged to seek partners in the other languages to submit a single proposal. Consortia must designate a lead institution to receive the grant award. Applicant organizations may submit grant proposals requesting funds not exceeding $6,000,000 to implement these overseas language institutes between June and August 2007.

Through these institutes, undergraduate and graduate students from the United States will spend six to ten weeks on a program abroad in the summer of 2007. Since there is an emphasis on substantial progress in foreign language advancement, applicant organizations need to concentrate most efforts on language programs and explain clearly the utility and advantages of proposing programs closer to six weeks. The institutes will provide intensive language instruction in a classroom setting, and should also provide language-learning opportunities through immersion in the cultural, social, and educational life of the partner country. The exchange program should enhance the participants' knowledge of the host country's history, culture, and political system as these support language learning. Language study must be the primary focus of the program.

Expected Program Results

• Participants will demonstrate a substantive, measurable increase in language proficiency (verified through testing).

• Alumni will continue their foreign language study, apply their linguistic skills in their chosen career fields, and/or participate in other exchanges to the participating countries.

• Participants will demonstrate a deeper understanding of the host country's society, institutions, and culture.

Capacity of Administering Organization: U.S. applicant organizations or consortia must have the necessary capacity in the partner country or countries to implement the program through either their own offices or partner institutions. Organizations may demonstrate their organization's direct expertise, or they may partner with other organizations to best respond to the requirements outlined in the RFGP. Organizations that opt to work in sub-grant arrangements should clearly outline all duties and responsibilities of the partner organization, ideally in the form of sub-grant agreements and accompanying budgets.

Organizations or consortia applying for this grant must demonstrate their (or their partners') capacity for conducting projects of this nature, focusing on three areas of competency: (1) Provision of related foreign language instruction programs and provision of educational and cultural exchange activities as outlined in this document; (2) language level-appropriate programming for the target audience; and (3) experience in conducting programs in the proposed partner country or countries. Applicant organizations must present a proposal that clearly indicates the building of new and increased institutional language study capacity overseas for these summer institutes.

Institute Information: Each six- to ten-week overseas summer institute for undergraduate and graduate students should focus on language study and should include 4 to 6 hours per day of formal and informal language training. The cooperating agency should provide multiple levels of language instruction. While teaching conversational vocabulary will be necessary to help students cope with their immersion setting, classes should also provide formal instruction in grammar, vocabulary, and pronunciation, and will cover speaking, listening, reading, and writing, including new alphabets.

The institutes should also include a secondary cultural immersion component designed to reinforce language learning with planned excursions, which give the students the opportunity to participate in activities designed to teach them about community life and the culture and history of the host country. The program activities will introduce the students to the community as feasible and appropriate and will include educational excursions that serve to enhance the visitors' understanding of contemporary society, culture, media, political institutions, ethnic diversity, history, and environment of the region.

Staff should be physically present and available to support the participants during the course of the institute.

The Bureau reserves the right to make changes in eligible countries for programming based on safety and security concerns.

Country and Language Information: For Arabic language institutes: Applicant organizations should present plans for not less than 150 participants in the Arabic language institutes. Arabic language instruction should be available for three levels of students: elementary, intermediate, and advanced. Approximately 100 of the participants should receive instruction at the intermediate/advanced levels while the rest should receive elementary level instruction. The proposed institute should make explicit accommodation for learners of varying skill levels.

Classroom instruction should emphasize Modern Standard Arabic with class time devoted also to colloquial Arabic, as appropriate. Students should also gain knowledge of colloquial Arabic through informal study and through interaction with their host community.

Some previous study of the language—at least equivalent to a university semester—is required for participants in the elementary Arabic institutes. Participants in the intermediate/advanced Arabic institutes will have already studied the language formally for at least 2 years by the start of the summer program. The institute should devise a plan to test all students prior to placement to determine the appropriate level of instruction.

Applicant organizations should plan to send students to a country in North Africa, the Middle East, or the Gulf region, with the exception of Algeria, Iraq, Israel, Libya, Lebanon, Saudi Arabia, and West Bank/Gaza. Applicant organizations must include venues in Egypt, Jordan, and Morocco.

For Chinese language institutes: Applicant organizations should present plans for not less than 40 participants in the Chinese language institutes. Chinese language instruction should be available for two levels of students: intermediate and advanced. The proposed institute should make explicit accommodation for learners of varying skill levels.

Students should study Mandarin in class and through informal study and interaction with their host community. Teaching materials used in the program should be available in both simplified and traditional character versions. The Hanyu pinyin romanization system should be used.

Participants in the intermediate/advanced Chinese institutes will have already studied the language formally for at least 2 years by the start of the summer program. The institute should devise a plan to test all students prior to placement to determine what level of instruction should be received.

Applicant organizations should plan to send students to the People's Republic of China (mainland China) for study.

For Indic language institutes: Applicant organizations should present plans for not less than 72 participants in the Indic language institutes. For these language institutes, not less than 18 students must learn Bengali/Bangla, not less than 18 must learn Hindi, not less than 18 must learn Punjabi, and not less than 18 must learn Urdu. Instruction should be available for each of these Indic languages. All Indic language instruction should be available for three levels of students: elementary, intermediate, and advanced. Overall, 40 of the participants should receive instruction at the intermediate/advanced level while the rest should receive elementary level instruction. The proposed institute should make explicit accommodation for learners of varying skill levels.

Students should learn Indic languages in class and through informal study and interaction with their host community.

Some previous study of the language—at least equivalent to a university semester—is required for participants in the elementary Indic institutes. Participants in the intermediate/advanced Indic institutes will have already studied the relevant language formally for at least 2 years by the start of the summer program. The institute should devise a plan to test all students prior to placement to determine what level of instruction should be received.

Applicant organizations should plan to send students to Bangladesh and/or India. The Bureau will consider proposals for Pakistan, but reserves the right to alter eligible countries based on safety and security concerns. Applicants proposing Pakistan should propose an alternate site should conditions not permit placement of students in Pakistan.

For Korean language institutes: Applicant organizations should present plans for not less than 25 participants in the Korean language institutes. Korean language instruction should be available for three levels of students: elementary, intermediate, and advanced. Ten of the participants should receive instruction at the intermediate/advanced level while the rest should receive elementary level instruction. The proposed institute should make explicit accommodation for learners of varying skill levels.

Students should learn Korean in class and through informal study and interaction with their host community. The Hangeul alphabet system should be used. Students should also be introduced to NAKL.

Some previous study of the language—at least equivalent to a university semester—is required for participants in the elementary Korean institutes. Participants in the intermediate/advanced Korean institutes will have already studied the language formally for at least two years by the start of the summer program. The institute should devise a plan to test all students prior to placement to determine what level of instruction should be received.

Applicant organizations should plan to send students to South Korea.

For Persian language institutes: Applicant organizations should present plans for not less than 15 participants in the Persian language institutes. Farsi language instruction should be available for three levels of students: beginning or introductory, intermediate, and advanced. Seven of the participants should receive instruction at the intermediate/advanced level while the rest should receive beginning or introductory level instruction. The proposed institute should make explicit accommodation for learners of varying skill levels.

Students should learn Farsi in class and through informal study and interaction with their host community.

No prior study of the language is required for participants in the beginning or introductory Farsi institutes. Participants in the intermediate/advanced Farsi institutes will have already studied the language formally for at least two years by the start of the summer program. The institute should devise a plan to test all students prior to placement to determine what level of instruction should be received.

Applicant organizations should plan to send students to Tajikistan for study of Farsi.

For Russian language institutes: Applicant organizations should present plans for not less than 30 participants in the Russian language institutes. Russian language instruction should be available for two levels of students: intermediate and advanced. The proposed institute should make explicit accommodation for learners of varying skill levels.

Students should learn Russian in class and through informal study and interaction with their host community.

Participants in the intermediate/advanced Russian institutes will have already studied the language formally for at least two years by the start of the summer program. The institute should devise a plan to test all students prior to placement to determine what level of instruction should be received.

Applicant organizations should plan to send students to Russia. Location of the institute(s) should be outside of Moscow and St. Petersburg in order to maximize language-learning opportunities.

For Turkic language institutes: Applicant organizations should present plans for not less than 35 participants in the Turkic language institutes. Turkish language instruction should be available for three levels of students: beginning or introductory, intermediate, and advanced. Fifteen of the participants should receive instruction at the intermediate/advanced level while the rest should receive beginning or introductory level instruction. The proposed institute should make explicit accommodation for learners of varying skill levels.

Students should learn Turkish in class and through informal study and interaction with their host community.

No prior study of the language is required for participants in the beginning or introductory Turkish institutes. Participants in the intermediate/advanced Turkish institutes will have already studied the language formally for at least two years by the start of the summer program. The institute should devise a plan to test intermediate/advanced students prior to placement to determine what level of instruction should be received.

Applicant organizations should plan to send students to Turkey. Location of the institute(s) should be outside of Istanbul in order to maximize language-learning opportunities.

Participant Recruitment and Selection: The cooperating agency will recruit, screen, and select U.S. citizen undergraduate and graduate students for the program. Selected participants should show strong evidence of ability to succeed in an intensive, demanding language study program and should represent the diversity of the United States. Diversity addresses differences of religion, ethnicity, socio-economic status, and physical abilities. Selected students should also represent diversity of geography, institutional type, and fields of study, a balance between genders, and a balance between undergraduate and graduate students. Preference should be given to candidates with no previous study overseas. Students should have completed at least their first year of undergraduate study by the summer of 2007. Selected students should demonstrate an intention of continuing their language study beyond the scholarship period and applying their critical language skills later in their professional careers. The students' language skills at the start of the institute should meet the requirements for each language outlined above.

The Bureau should be consulted regarding the selection of candidates and will approve the selection of finalists and alternates for the program.

Information about the program, along with all accompanying application materials, should be posted online. Applicant organizations should propose a comprehensive outreach plan under Tab E to publicize and recruit for the program at U.S. colleges and universities nationwide.

The Bureau requests that student applicants apply to the program through an online application system. An alternate paper-based application should also be provided for those candidates unable to apply online. These paper-based applications, however, must be entered into the online system by grantee organization program staff. All application materials should be available in a sortable, searchable, electronically accessible database format that can be easily shared with the Bureau upon request.

Orientations: The grantee organization will organize a substantive, in-person, pre-departure orientation for all students. Working in consultation with ECA, the orientation should include a security briefing on the host country. The grantee organization may also need to work in consultation with ECA and the U.S. Embassy in the host country to arrange an in-country security briefing to be held by the Embassy's Regional Security Officer. The orientations should take place in Washington, DC. The applicant organization should provide a compelling justification if they propose to host these orientations in any other location. Comprehensive information packets should be provided to all orientation participants. A sample of the contents of these packets should be provided under Tab E.

At the end of the language study exchange, the cooperating agency will organize an in-country closing workshop for the students prior to departure from their host country, which will focus on summarizing the experience, completing an evaluation, language testing, developing plans for activities at home, and preparing for re-entry.

Project Activities: Describe in sufficient detail the major components of the program, including project planning; publicity and recruitment, including responding to and management of a significant volume of queries and applications; the host venues; selection; orientations (U.S. and overseas); assessment and testing; language instruction; educational enrichment activities; cultural activities; participant monitoring; and logistics.

Assessment and Testing: Standardized pre- and post-institute testing should be done to determine participants' language proficiency and progress.

Pre- and post-testing should measure the student's advancement in language learning. The Bureau will work with the cooperating agency to develop and implement an instrument to measure students' increased language proficiency due to participation in this program. The data need to be analyzed and reported by the cooperating agency to ECA for the program, disaggregated by institute.

Alumni Tracking and Follow-On Activities: Alumni activities are an important part of ECA's academic exchange programs. Alumni programming in the form of newsletters and listservs provides critical program follow-on and maximizes and extends the benefit of the participants' program. The cooperating agency is strongly urged to outline how it will creatively organize and financially support alumni activities at a minimal cost to ECA.

Publicity: The proposal must describe how these intensive summer language institutes will be publicized to media outlets, including print, online, and broadcast to reach the widest possible audience of qualified students. The cooperating agency will also work closely with ECA to publicize the successes of the students involved in these institutes, as well as the National Security Language Initiative as a whole. The applicant organization should provide information on successful media outreach campaigns it has conducted in the past under Tab E.

In a cooperative agreement, ECA/A/E is substantially involved in program activities above and beyond routine grant monitoring. ECA/A/E activities and responsibilities for this program are as follows:

(1) Review all print and online materials (including, but not limited to, those for recruitment and orientation) regarding the institutes before publication and dissemination. Review does not include instructional materials, though the Bureau does reserve the right to request these materials as needed.

(2) Work with the cooperating agency on a recruitment strategy.

(3) Work with the cooperating agency to publicize the program, and the National Security Language Initiative (NSLI) as a whole, through various media outlets.

(4) Review and approve application forms.

(5) Participate in selection committees.

(6) Confirm final selection of principal and alternate candidates.

(7) Work with cooperating agency to implement participant orientations.

(8) Work with cooperating agency to offer standardized pre- and post-institute testing of participants' language proficiency and progress.

(9) Review project activity schedules for all institutes.

(10) Be kept informed by the cooperating agency of its progress at each stage of the project's implementation through timely updates.

(11) Provide Bureau-approved evaluation surveys for completion by participants after completion of program.

(12) Provide substantive input on alumni activities and follow-up events.

Note: All materials, publicity, and correspondence related to the program must acknowledge this as a program of the Bureau of Educational and Cultural Affairs of the U.S. Department of State. The Bureau will retain copyright use of and distribute materials related to this program as it sees fit.

Funding: Grant funding will support costs including recruitment and selection of participants, testing, orientation, travel, tuition and maintenance costs, educational enhancements, cultural and social activities, alumni activities, and administrative costs.

Programs must comply with J-1 visa regulations. Please refer to the Project Objectives, Goals, and Implementation (POGI) document and the Proposal Submission Instructions for further information.

II. Award Information

Type of Award: Cooperative Agreement. ECA's level of involvement in this program is listed under number I above.

Fiscal Year Funds: 2007.

Approximate Total Funding: $6,000,000, pending availability of funds.

Approximate Number of Awards: 1.

Ceiling of Award Range: $6,000,000.

Anticipated Award Date: Pending availability of funds, the proposed start date is February 15, 2007.

Anticipated Project Completion Date: Approximately 14 to 18 months after the start date, depending on the proposed program plan.

Additional Information: Pending successful implementation of this program and the availability of funds in subsequent fiscal years, ECA reserves the right to renew the grant for two additional fiscal years.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs that are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements: Bureau grant guidelines require that organizations with less than four years experience in conducting international exchanges be limited to $60,000 in Bureau funding. ECA anticipates awarding a single grant not exceeding $6,000,000 to support program and administrative costs required to implement this exchange program. Therefore, organizations with less than four years experience in conducting international exchanges are ineligible to apply under this competition. The Bureau urges applicants to provide maximum levels of cost sharing and funding in support of its programs.

IV. Application and Submission Information

Note: Please read the complete announcement before sending inquiries or submitting proposals. Once the RFGP deadline has passed, Bureau staff may not discuss this competition with applicants until the proposal review process has been completed.

IV.1 Contact Information to Request an Application Package:

Please contact the Office of Academic Exchange Programs (ECA/A/E), Room 234, U.S. Department of State, SA-44, 301 4th Street, SW., Washington, DC 20547, Telephone (202) 453-8135, Fax (202) 453-8125, E-mail: ManleyHL@state.gov to request a Solicitation Package. Please refer to the Funding Opportunity Number (ECA/A/E-07-01) located at the top of this announcement when making your request.

Alternatively, an electronic application package may be obtained from grants.gov. Please see section IV.3f for further information.

The Solicitation Package contains the Proposal Submission Instruction (PSI) document, which consists of required application forms and standard guidelines for proposal preparation.

It also contains the Project Objectives, Goals and Implementation (POGI) document, which provides specific information, award criteria, and budget instructions tailored to this competition.

Please specify Bureau Special Projects Officer Heidi Manley and refer to the Funding Opportunity Number located at the top of this announcement on all other inquiries and correspondence.

IV.2. To Download a Solicitation Package Via Internet: The entire Solicitation Package may be downloaded from the Bureau's Web site at http://exchanges.state.gov/education/rfgps/menu.htm, or from the Grants.gov Web site at http://www.grants.gov.

Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 form that is part of the formal application package.

IV.3b. All proposals must contain an executive summary, proposal narrative and budget.

Please Refer to the Solicitation Package. It contains the mandatory Proposal Submission Instructions (PSI) document and the Project Objectives, Goals and Implementation (POGI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.2 Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation: Ideally programs use logic models, a system that is designed to link a program's overall goals and objectives to inputs, outputs and outcomes. Inputs are resources, such as time money, materials, supplies and personnel, which are consumed to produce outputs and outcomes. Outputs are the immediate products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Expected program outcomes, as they relate to the program goals set out in the RFGP, include:

(1) Participant satisfaction with the program and exchange experience.

(2) Participant learning, such as increased knowledge, aptitude, skills, and changed understanding and attitude. Learning includes both substantive (subject-specific) learning and mutual understanding.

(3) Participant behavior, concrete actions to apply knowledge in school or community; greater participation and responsibility in civic organizations; interpretation and explanation of experiences and new knowledge gained; continued contacts between participants and host families, and others.

Successful monitoring and evaluation depend heavily on setting clear program objectives, outcomes, and outputs at the outset of a program. A draft monitoring and evaluation plan should include the following components:

(1) A description of the program's goals and objectives and anticipated outputs and outcomes.

(2) A description of how the cooperating agency and host institutions intend to monitor and report program activities at the output level. This may include the use of participant surveys that focus on logistics and administration, focus groups and interviews.

(3) Incorporation of pre- and post-testing for language acquisition to measure one of the program's outcomes. The Bureau will work with the cooperating agency to develop and implement an instrument to measure students' increased language proficiency due to participation in this program. The data need to be analyzed and reported by the cooperating agency to ECA for the program, disaggregated by institute.

(4) Incorporation of three surveys using ECA's E-GOALS to measure additional program outcomes. Administered by the Bureau's Office of Policy and Evaluation (ECA/P), E-GOALS is an online system for surveying program participants and collecting data about program performance. All program participants will be required to take three online surveys:

(a) Standardized pre-program surveys, at the beginning of the program;

(b) Standardized post-program surveys, at the end of the program; and

(c) Standardized follow-up surveys, approximately six months after the conclusion of the program.

These surveys are designed to help the cooperating agency and ECA assess: student satisfaction with the program; student attitudes and views; the extent of learning and skill development (including leadership); reliance on new learning and skills in their studies, at work, and in their communities; and their efforts to share new ideas, knowledge, and insights. Included in these surveys are questions specific to ECA's internal reporting.

The cooperating agency will be expected to work with the Program Officer and an evaluator from the Office of Policy and Evaluation to refine and implement the survey instruments. To ensure proper implementation of E-GOALS, the cooperating agency will be required to:

• Provide the Program Officer and E-GOALS evaluator with all contact information and bio-data of program participants.

• Provide all participants with information about the E-GOALS survey. Students must be advised that they are required to take all three surveys, assuring them that the surveys are completely confidential, anonymous, and used only for evaluative purposes.

• Notify students of the E-GOALS survey link, information about E-GOALS and survey instructions.

• Allocate time for E-GOALS surveying prior to the students departure from their return to the U.S. and at the end of the program.

• Send reminder notices to students to take the follow-up survey.

(5) A description of any additional methods planned to supplement information obtained through language proficiency surveys and E-GOALS to measure progress towards achievement of the program's objectives, such as the use of focus groups and interviews, and how the data will be analyzed and reported.

Overall, the quality of the applicant organization's monitoring and evaluation plan will be judged on how well it (1) specifies intended goals and objectives; (2) gives clear descriptions of how each outcome and output will be measured; (3) identifies when particular outcomes and outputs will be measured; and (4) incorporates and describes data collection strategies for each outcome (i.e., surveys, interviews, or focus groups).

The cooperating agency will be required to provide reports analyzing evaluation findings to the Bureau in regular program reports. All data collected, including survey responses and contact information, must be maintained for a minimum of three years and provided to the Bureau upon request.

IV.3d.4. Describe in your proposal your plans for: overall program management, staffing, coordination with ECA and with overseas institutes enrolling clusters of students, recruitment, testing, orientation, and cultural enrichment opportunities for students. Please provide a staffing plan that outlines the responsibilities of each staff person and explains which staff members will be accountable for each program responsibility.

IV.3e. Please take the following information into consideration when preparing your budget:

IV.3e.1. Applicants must submit a comprehensive budget for the entire program. Grant requests should not exceed $6,000,000. There must be a summary budget as well as breakdowns reflecting both administrative and program budgets. Applicants should provide separate sub-budgets for each program component, phase, location, or activity to provide clarification. Applicants should also provide copies of any sub-grant agreements that would be implemented under terms of this award.

IV.3e.2. Allowable costs for the program and additional budget guidance are outlined in detail in the POGI document.

Please refer to the POGI and the PSI documents in the Solicitation Package for complete budget guidelines and formatting instructions.

IV.3F. Application Deadline and Methods of Submission:

Application Deadline Date: January 5, 2007.

Reference Number: ECA/A/E-07-01.

Methods of Submission

Applications may be submitted in one of two ways:

1. In hard-copy, via a nationally recognized overnight delivery service (i.e., DHL, Federal Express, UPS, Airborne Express, or U.S. Postal Service Express Overnight Mail, etc.), or

2. Electronically through http://www.grants.gov.

Along with the Project Title, all applicants must enter the above Reference Number in Box 11 on the SF-424 contained in the mandatory Proposal Submission Instructions (PSI) of the solicitation document.

IV.3f.1 Submitting Printed Applications: Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original, one fully-tabbed copy, and eight copies of the application with Tabs A-E (for a total of ten copies) should be sent to: U.S. Department of State, SA-44, Bureau of Educational and Cultural Affairs, Ref.: ECA/A/E-07-01, Program Management, ECA/EX/PM, Room 534, 301 4th Street, SW., Washington, DC 20547.

Along with the Project Title, all applicants must enter the above Reference Number in Box 11 on the SF-424 contained in the mandatory Proposal Submission Instructions (PSI) of the solicitation document.

Applicants submitting hard-copy applications must also submit the “Executive Summary” and “Proposal Narrative” sections of the proposal in text (.txt) format on a PC-formatted disk. The Bureau will provide these files electronically to the appropriate Public Affairs Section(s) at the U.S. embassy(ies) for its(their) review.

IV.3f.2. Submitting Electronic Applications: Applicants have the option of submitting proposals electronically through Grants.gov (http://www.grants.gov). Complete solicitation packages are available at Grants.gov in the “Find” portion of the system. Please follow the instructions available in the 'Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. Therefore, we strongly recommend that you not wait until the application deadline to begin the submission process through Grants.gov.

Direct all questions regarding Grants.gov registration and submission to: Grants.gov Customer Support; Contact Center Phone: 800-518-4726. Business Hours: Monday-Friday, 7 a.m.-9 p.m. Eastern Time. E-mail: support@grants.gov.

Applicants have until midnight (12 a.m.), Washington, DC time of the closing date to ensure that their entire application has been uploaded to the Grants.gov site. There are no exceptions to the above deadline. Applications uploaded to the site after midnight of the application deadline date will be automatically rejected by the Grants.gov system, and will be technically ineligible.

Applicants will receive a confirmation e-mail from grants.gov upon the successful submission of an application. ECA will not notify you upon receipt of electronic applications.

It is the responsibility of all applicants submitting proposals via the Grants.gov web portal to ensure that proposals have been received by Grants.gov in their entirety, and ECA bears no responsibility for data errors resulting from transmission or conversion processes.

IV.3g. Intergovernmental Review of Applications: Executive Order 12372 does not apply to this program.

V. Application Review Information

V.1. Review Process: The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (cooperative agreements) resides with the Bureau's Grants Officer.

Review Criteria: Please see proposal review criteria in the accompanying Project Objectives, Goals, and Implementation (POGI) document.

VI. Award Administration Information

VI.1a. Award Notices: Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements: Terms and Conditions for the Administration of ECA agreements include the following: Office of Management and Budget Circular A 122, “Cost Principles for Nonprofit Organizations.” Office of Management and Budget Circular A-21, “Cost Principles for Educational Institutions.” OMB Circular A-87, “Cost Principles for State, Local and Indian Governments”. OMB Circular No. A 110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants. http://exchanges.state.gov/education/grantsdiv/terms.htm#articleI.

VI.3. Reporting Requirements: You must provide ECA with a hard copy original plus two copies of the following reports:

1. A final program and financial report no more than 90 days after the expiration of the award;

2. Interim program and financial reports that include information on the progress made on the program plan and program results to date.

Grantees will be required to provide reports analyzing their evaluation findings to the Bureau in their regular program reports. (Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Program Data Requirements: Organizations awarded grants will be required to maintain specific data on program participants and activities in an electronically accessible database format that can be shared with the Bureau as required. As a minimum, the data must include the following:

1. Name, address, contact information and biographic sketch of all persons who travel internationally on funds provided by the grant or who benefit from the grant funding but do not travel.

2. Itineraries of international and domestic travel, providing dates of travel and cities in which any exchange experiences take place. Final schedules for in-country and U.S. activities must be received by the ECA Program Officer at least three work days prior to the official opening of the activity.

VII. Agency Contacts

For questions about this announcement, contact: Heidi Manley, Office of Academic Exchange Programs, Bureau of Educational and Cultural Affairs, ECA/A/E-07-01, U.S. Department of State, SA-44, 301 4th Street, SW., Room 234, Washington, DC 20547, Telephone (202) 453-8135, Fax (202) 453-8125, E-mail ManleyHL@state.gov.

All correspondence with the Bureau concerning this RFGP should reference the above title and number ECA/A/E-07-01.

Please read the complete Federal Register announcement before sending inquiries or submitting proposals. Once the RFGP deadline has passed, Bureau staff may not discuss this competition with applicants until the proposal review process has been completed.

VIII. Other Information

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: October 25, 2006.
C. Miller Crouch,
Principal Deputy Assistant Secretary, Bureau of Educational and Cultural Affairs, Department of State.

[FR Doc. E6-18280 Filed 10-30-06; 8:45 am]

BILLING CODE 4710-05-P